DEPARTMENT OF COMMERCE

International Trade Administration

[A-580-880]

Heavy Walled Rectangular Welded Carbon Steel Pipes and Tubes From the Republic of Korea: Final Results of Antidumping Duty Administrative Review; 2019-2020

AGENCY: Enforcement and Compliance, International Trade Administration, Department of Commerce.

SUMMARY: The Department of Commerce (Commerce) determines that producers and/or exporters subject to this administrative review made sales of subject merchandise at less than normal value during the period of review (POR), September 1, 2019, through August 31, 2020.

DATES: Applicable April 7, 2022.

FOR FURTHER INFORMATION CONTACT: Alice Maldonado or Jacob Garten, AD/CVD Operations, Office II, Enforcement and Compliance, International Trade Administration, U.S. Department of Commerce, 1401 Constitution Avenue NW, Washington, DC 20230; telephone: (202) 482-4682 or (202) 482-3342, respectively.

SUPPLEMENTARY INFORMATION:

Background

This review covers two producers and exporters of the subject merchandise.¹ Commerce selected Dong-A Steel Co., Ltd., (DOSCO) and HiSteel Co., Ltd., (HiSteel) for individual examination. On October 6, 2021, Commerce published the Preliminary Results.² In November and December 2021, the petitioner,³ DOSCO, and HiSteel submitted case and rebuttal briefs.⁴ For a description of the events that occurred since the Preliminary Results, see the Issues and Decision Memorandum.⁵ On January 14, 2022, Commerce extended the deadline for the final results of this administrative review until April 1, 2022.⁶

¹ We received a timely submission withdrawing all review requests for 27 companies; we rescinded the review with respect to these companies. See Heavy Walled Rectangular Welded Carbon Steel Pipes and Tubes from the Republic of Korea: Rescission of Antidumping Duty Administrative Review; 2019-2020, in Part, 86 FR 14075 (March 12, 2021).

² See Heavy Walled Rectangular Welded Carbon Steel Pipes and Tubes from the Republic of Korea: Preliminary Results of Antidumping Duty Administrative Review; 2019-2020, 86 FR 55582 (October 6, 2021) (Preliminary Results).

³ The petitioner is Nucor Tubular Products Inc.

⁴ See Petitioner's Letter, “Heavy Walled Rectangular Welded Carbon Steel Pipes and Tubes from South Korea: Nucor Tubular's Case Brief,” dated November 17, 2021; DOSCO's Letter, “Administrative Review of the Antidumping Order on Heavy Walled Rectangular Carbon Steel Pipe and Tube from Korea—Case Brief of Dong-A-Steel Co., Ltd and SeAH Steel Corporation,” dated November 17, 2021; HiSteel's Letter, “Administrative Review of the Antidumping Order on Heavy Walled Rectangular Carbon Steel Pipe and Tube from Korea—Case Brief of HiSteel Co., Ltd.,” dated November 17, 2021; DOSCO and HiSteel's Joint Letter, “Administrative Review of the Antidumping Order on Heavy Walled Rectangular Carbon Steel Pipe and Tube from Korea—Rebuttal Brief of Dong-A-Steel Co., Ltd and HiSteel Co. Ltd.,” dated December 3, 2021; DOSCO's Letter, “Administrative Review of the Antidumping Order on Heavy Walled Rectangular Carbon Steel Pipe and Tube from Korea—Rebuttal Brief of Dong-A-Steel Co., Ltd and SeAH Steel Corporation,” dated December 3, 2021; HiSteel's Letter, “Administrative Review of the Antidumping Order Heavy Walled Rectangular Carbon Steel Pipe and Tube from Korea—Rebuttal Brief of HiSteel Co. Ltd.,” dated December 3, 2021. In February 2022, DOSCO and HiSteel, and the petitioner filed redacted briefs based on Commerce's request to remove untimely new factual information. See DOSCO and HiSteel's Letter, “Administrative Review of the Antidumping Order on Heavy Walled Rectangular Carbon Steel Pipe and Tube from Korea—Redacted Case Brief of Dong-A-Steel Co., Ltd. and HiSteel Co. Ltd.,” dated February 25, 2022; and Petitioner's Letter, “Heavy Walled Rectangular Welded Carbon Steel Pipes and Tubes from South Korea: Nucor Tubular's Rebuttal Brief Resubmission,” dated February 24, 2022.

⁵ See Memorandum, “Issues and Decision Memorandum for the Final Results of the 2019-2020 Administrative Review of the Antidumping Duty Order on Heavy Walled Rectangular Welded Carbon Steel Pipes and Tubes from the Republic of Korea,” dated concurrently with, and hereby adopted by, these results (Issues and Decision Memorandum).

⁶ See Memorandum, “Heavy Walled Rectangular Welded Carbon Steel Pipes and Tubes from the Republic of Korea: Extension of Deadline for Final Results of the 2019-2020 Antidumping Duty Administrative Review,” dated January 14, 2022.

Commerce conducted this administrative review in accordance with section 751 of the Tariff Act of 1930, as amended (the Act).

Scope of the Order ⁷

⁷ See Heavy Walled Rectangular Welded Carbon Steel Pipes and Tubes from the Republic of Korea, Mexico, and the Republic of Turkey: Antidumping Duty Orders, 81 FR 62865 (September 13, 2016) (Order).

The products covered by the Order are certain heavy walled rectangular welded steel pipes and tubes from the Republic of Korea (Korea). Products subject to the order are currently classified under the Harmonized Tariff Schedule of the United States (HTSUS) item number 7306.61.1000. Subject merchandise may also be classified under 7306.61.3000. Although the HTSUS numbers and ASTM specification are provided for convenience and for customs purposes, the written product description remains dispositive.⁸

⁸ For a full description of the scope of the Order, see Issues and Decision Memorandum.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, we made certain changes to the preliminary weighted-average margin calculations for DOSCO and HiSteel. For a discussion of these changes, see the “Margin Calculations” section of the Issues and Decision Memorandum.⁹

⁹ See Issues and Decision Memorandum.

Final Results of the Review

We assigned the following weighted-average dumping margins to the firms listed below for the period September 1, 2019, through August 31, 2020:

Producer/exporter | Weighted- average dumping margin (percent)
Dong-A Steel Co., Ltd ¹⁰ | 1.61
HiSteel Co., Ltd | 10.24

We intend to disclose the calculations performed within five days of the date of publication of this notice to parties in this proceeding, in accordance with 19 CFR 351.224(b).

¹⁰ In the prior administrative review, Commerce collapsed Dong-A Steel Co., Ltd., with its affiliated producer SeAH Steel Corporation, and we continue to treat these companies as a single entity, in accordance with 19 CFR 351.401(f). See Heavy Walled Rectangular Welded Carbon Steel Pipes and Tubes from the Republic of Korea: Final Results of Antidumping Duty Administrative Review; 2018-2019, 86 FR 35060, 35061 (July 1, 2021).

Assessment Rates

Pursuant to section 751(a)(2)(C) of the Act and 19 CFR 351.212(b)(1), Commerce has determined, and U.S. Customs and Border Protection (CBP) shall assess, antidumping duties on all appropriate entries of subject merchandise in accordance with the final results of this review. Pursuant to 19 CFR 351.212(b)(1), where the respondent did not report entered value, we calculated the entered value in order to calculate the assessment rate. Where the respondent's weighted-average dumping margin is zero or de minimis within the meaning of 19 CFR 351.106(c)(1), or an importer-specific rate is zero or de minimis, we will instruct CBP to liquidate the appropriate entries without regard to antidumping duties. In accordance with Commerce's practice, for entries of subject merchandise during the POR for which the reviewed companies did not know that the merchandise was destined for the United States, we will instruct CBP to liquidate such entries at the all-others rate if there is no company-specific rate for the intermediate company(ies) involved in the transaction.¹¹

¹¹ See Antidumping and Countervailing Duty Proceedings: Assessment of Antidumping Duties, 68 FR 23954 (May 6, 2003).

The final results of this review shall be the basis for the assessment of antidumping duties on entries of merchandise covered by the final results of this review and for future deposits of estimated duties, where applicable.¹² Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹² See section 751(a)(2)(C) of the Act.

Cash Deposit Requirements

The following cash deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously investigated companies not participating in this review, the cash deposit will continue to be the company-specific rate published for the most recently completed segment of this proceeding; (3) if the exporter is not a firm covered in this review, or the original less-than-fair-value (LTFV) investigation, but the manufacturer is, then the cash deposit rate will be the rate established for the most recent segment for the manufacturer of the merchandise; and (4) the cash deposit rate for all other manufacturers or exporters will continue to be 3.24 percent, the all-others rate established in the LTFV investigation.¹³ These deposit requirements, when imposed, shall remain in effect until further notice.

¹³ See Order.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing this notice in accordance with sections 751(a)(1) and 777(i) of the Act.

Dated: April 1, 2022.
Lisa W. Wang,
Assistant Secretary for Enforcement and Compliance.

Appendix

List of Topics Discussed in the Issues and Decision Memorandum

I. Summary

II. Background

III. Scope of the Order

IV. Margin Calculations

V. Discussion of Issues

General Issues

Comment 1: Existence of a Particular Market Situation (PMS)

Comment 2: Differential Pricing

DOSCO-Specific Issues

Comment 3: Valuation of SeAH Steel Corporation (SeAH Steel)'s Hot Rolled Coil (HRC) Purchases

Comment 4: Calculation of DOSCO's General and Administrative (G&A) Expenses

Comment 5: Calculation of DOSCO's Scrap Offset Adjustment

Comment 6: SeAH Steel's Headquarters Inventory Valuation Losses

Comment 7: Error in Calculating Value of Services DOSCO Obtained from SeAH Steel Holdings Corporation (SSHC)

Comment 8: Treatment of Unrecovered Expenses of DOSCO's Corporate Parent

Comment 9: Treatment of Unrecovered Expenses of SeAH Holdings Corporation (SHC) and Other Affiliates

Comment 10: Allocation of Expenses between G&A and Indirect Selling Expenses (ISE)

Comment 11: Treatment of Miscellaneous Income in Calculation of DOSCO's G&A Expense Ratio

Comment 12: Adjustments to SeAH Steel's Costs Due to Reconciliation Discrepancy

Comment 13: Adjustments to the Calculation of the Consolidated Financial Expense Ratio

Comment 14: Adjustments to DOSCO's and SeAH Steel's Reported Scrap Offsets

Comment 15: Adjustments to DOSCO's G&A Expense Calculation

Comment 16: Calculation of DOSCO's Consolidated Financial Expense Ratio

Comment 17: Treatment of Reworked Merchandise in Regard to SeAH Steel's Reported Costs

HiSteel-Specific Issues

Comment 18: Allocation of Common Expenses for HiSteel

Comment 19: Financial Expense Ratio

Comment 20: Transactions-Disregarded Rule

Comment 21: Adjustment to HiSteel's Reported Scrap Offset

Comment 22: HiSteel's G&A Expense Ratio

VI. Recommendation

[FR Doc. 2022-07445 Filed 4-6-22; 8:45 am]

BILLING CODE 3510-DS-P